DEPARTMENT OF COMMERCE

International Trade Administration

(C-533-829)

Final Results of Expedited Sunset Review of Countervailing Duty Order: Prestressed Concrete Steel Wire Strand from India

AGENCY: Import Administration, International Trade Administration, Department of Commerce.

SUMMARY: On December 1, 2008, the Department of Commerce (“the Department”) initiated a sunset review of the countervailing duty (“CVD”) order on prestressed concrete steel wire strand (“PC strand”) from India pursuant to section 751(c) of the Tariff Act of 1930, as amended (“the Act”). See Initiation of Five-Year (“Sunset”) Reviews, 73 FR 72770 (December 1, 2008). On the basis of a notice of intent to participate and an adequate substantive response filed on behalf of domestic interested parties and an inadequate response (in this case, no response) from respondent interested parties, the Department decided to conduct an expedited sunset review of this CVD order pursuant to section 751(c)(3)(B) of the Act and 19 CFR 351.218(e)(1)(ii)(B). As a result of this review, the Department finds that revocation of the CVD order would be likely to lead to continuation or recurrence of a countervailable subsidy at the level indicated in the “Final Results of Review” section of this notice.

EFFECTIVE DATE: April 8, 2009.

FOR FURTHER INFORMATION CONTACT: Eric Greynolds or Brandon Farlander, AD/CVD Operations, Office 3, Import Administration, International Trade Administration, U.S. Department of Commerce, 14th Street & Constitution Avenue, NW, Washington; DC 20230; telephone: (202) 482-6071 or (101) 482-0182, respectively.

SUPPLEMENTAL INFORMATION:

Background

On December 1, 2008, the Department initiated a sunset review of the CVD order on PC strand from India pursuant to section 751(c) of the Act. See Initiation of Five-Year (“Sunset”) Reviews, 73 FR 72770 (December 1, 2008). The Department received a notice of intent to participate on behalf of American Spring Wire Corp., Insteel Wire Products Company, and Sumiden Wire Products Corporation (collectively, “petitioners”), within the deadline specified in 19 CFR 351.218(d)(1)(i). The petitioners claimed interested party status under section 771(9)(C) of the Act, as domestic producers of PC strand.

The Department received a complete substantive response from the petitioners within the 30-day deadline specified in 19 CFR 351.218(d)(3)(i). However, the Department did not receive a substantive response from any respondent interested party to this proceeding. As a result, pursuant to section 751(c)(3)(B) of the Act and 19 CFR 351.218(e)(1)(ii)(C)(2), the Department conducted an expedited review of this order.

Scope of the Order

The merchandise subject to this order is prestressed concrete steel wire (“PC strand”), which is steel strand produced from wire of non-stainless, non-galvanized steel, which is suitable for use in prestressed concrete (both pre-tensioned and post-tensioned) applications. The product definition encompasses covered and uncovered strand and all types, grades, and diameters of PC strand.

The merchandise under this order is currently classifiable under subheadings 7312.10.3010 and 7312.10.3012 of the Harmonized Tariff Schedule of the United States (“HTSUS”). Although the HTSUS subheadings are provided for convenience and customs purposes, the written description of the merchandise under investigation is dispositive.

Analysis of Comments Received

All issues raised in this review are addressed in the Issues and Decision Memorandum (“Decision Memorandum”) from John M. Andersen, Acting Deputy Assistant Secretary for Antidumping and Countervailing Duty Operations, to Ronald K. Lorentzen, Acting Assistant Secretary for Import Administration, dated March 31, 2009, which is hereby adopted by this notice. Parties can find a complete discussion of all issues raised in this review and the corresponding recommendation in this public memorandum which is on file in the Central Records Unit room B-1117 of the main Commerce building. In addition, a complete version of the Decision Memorandum can be accessed directly on the Web at http://ia.ita.doc.gov/frn. The paper copy and electronic version of the Decision Memorandum are identical in content.

Final Results of Review

The Department determines that revocation of the countervailing duty order would be likely to lead to continuation or recurrence of a countervailable subsidy at the rate listed below:

Producers/Exporters | Net Countervailable Subsidy (percent)
All Manufacturers/Producers/Exporters | 62.92

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing the results and notice in accordance with sections 751(c), 752, and 777(i)(1) of the Act.

Dated: March 30, 2009.
Ronald K. Lorentzen,
Acting Assistant Secretary for Import Administration.

[FR Doc. E9-7983 Filed 4-7-09; 8:45 am]

BILLING CODE 3510-DS-S